FEDERAL COMMUNICATIONS COMMISSION

47 CFR Part 11

[PS Docket Nos. 15-94, 15-91; FCC 21-77; FR ID 89691]

Emergency Alert System, Wireless Emergency Alerts; National Defense Authorization Act for Fiscal Year 2021

AGENCY: Federal Communications Commission.

ACTION: Final rule; announcement of compliance date.

SUMMARY: In this document, the Federal Communications Commission (Commission) announces that the Office of Management and Budget (OMB) has approved information collections associated with certain rules adopted in the Report and Order (NDAA21 Alerting Order). The Commission also announces that compliance with the rules is now required. The Commission also removes paragraphs advising that compliance was not required until OMB approval was obtained. This document is consistent with the NDAA21 Alerting Order and rules, which state the Commission will publish a document in the Federal Register announcing a compliance date for the rule sections and revise the rules accordingly.

DATES:

Effective date: These rules are effective June 6, 2022.

Compliance date: Compliance with 47 CFR 11.21 introductory text, (a) introductory text, and (a)(8) and 11.45(c), published at 86 FR 46783 on August 20, 2021, is required as of June 6, 2022.

FOR FURTHER INFORMATION CONTACT: Chris Fedeli, Attorney-Advisor, Public Safety and Homeland Security Bureau, Policy and Licensing Division at (202) 418-1514 or christopher.fedeli@fcc.gov.

SUPPLEMENTARY INFORMATION: This is a synopsis of the Commission's Report and Order (NDAA21 Alerting Order), FCC 21-77, in PS Dockets 15-91 and 15-94, released on June 17, 2021, published at 86 FR 46783 on August 20, 2021.

This document announces that OMB approved the information collection requirements contained in 47 CFR 11.21 introductory text, (a) introductory text, and (a)(8) and 11.45(c).

The Commission publishes this document as an announcement of the compliance date of the rules.

Separately, the Commission observes that some of the information collection requirements made effective by this notice are required to be filed with the Commission using the Alert Reporting System (ARS) on or by July 5, 2022. See Federal Communications Commission, Alert Reporting System Available for Filing of State Emergency Alert System Plans, 86 FR 35089 (July 1, 2021).

If you have any comments on the burden estimates listed below, or how the Commission can improve the collections and reduce any burdens caused thereby, please contact Nicole Ongele, Federal Communications Commission, 45 L Street NE, Washington, DC 20554, regarding OMB Control Numbers 3060-0207. Please include the relevant OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice).

Synopsis

As required by the Paperwork Reduction Act of 1995 (44 U.S.C. 3507), the FCC is notifying the public that it received OMB approval on April 14, 2022, for the information collection requirements contained in the Commission's rules at 47 CFR 11.21 introductory text, (a) introductory text, and (a)(8) and 11.45(c).

Under 5 CFR part 1320, an agency may not conduct or sponsor a collection of information unless it displays a current, valid OMB Control Number.

No person shall be subject to any penalty for failing to comply with a collection of information subject to the Paperwork Reduction Act that does not display a current, valid OMB Control Number.

The foregoing notification is required by the Paperwork Reduction Act of 1995, Public Law 104-13, October 1, 1995, and 44 U.S.C. 3507.

The total annual reporting burdens and costs for the respondents are as follows:

OMB Control Number: 3060-0207.

OMB Approval Date: April 14, 2022.

OMB Expiration Date: April 30, 2025.

Title: Part 11—Emergency Alert System (EAS), Order, FCC 21-77.

Form No.: N/A.

Number of Respondents and Responses: 63,084 respondents; 3,588,845 responses.

Estimated Time per Response: 0.017 hours-112 hours.

Frequency of Response: Annual, on occasion and one-time reporting requirements.

Obligation to Respond: Mandatory and Voluntary. Statutory authority for this information collection is contained in 47 U.S.C. 154(i) and 606 of the Communications Act of 1934, as amended.

Total Annual Burden: 141,414 hours.

Total Annual Cost: No Cost.

Privacy Act Impact Assessment: No Impact(s).

Nature and Extent of Confidentiality: The Commission shares aggregated and individual State Emergency Alert System (EAS) Plan data on a confidential basis with other Federal agencies and state governmental emergency management agencies that have confidentiality protection at least equal to that provided by the Freedom of Information Act.

Needs and Uses: Part 11 contains rules and regulations addressing the Nation's EAS. The EAS provides the President with the capability to provide immediate communications and information to the general public during periods of national emergency over broadcast television and radio, cable, direct broadcast radio and other EAS Participants, as defined in § 11.11(a) of the Commission's rules. The EAS also provides state and local governments and the National Weather Service with the capability to provide immediate communications and information to the public concerning emergency situations posing a threat to life and property. Part 11 includes testing requirements to ensure proper and efficient operation of the EAS. State and local use of the EAS, alert processing requirements, and monitoring assignments covering the distribution of EAS alerts within the state, among other things, are required to be described in State EAS Plans that are administered by State Emergency Communications Committees (SECC) and submitted to the FCC annually for approval.

The NDAA Alerting Order, pursuant to the directions set forth in Section 9201 of the William M. (Mac) Thornberry National Defense Authorization Act for Fiscal Year 2021, Public Law 116-283, 134 Stat. 3388, section 9201 (NDAA21), among other things, (i) requires the Public Safety and Homeland Security Bureau (Bureau) to establish a State EAS Plan Content Checklist composed of the content set forth in § 11.21 of the Commission's rules, 47 CFR 11.21, post the checklist on the FCC's website, and incorporate it as an appendix in the ARS user manual; (ii) amends the State EAS Plan requirements in § 11.21 of the Commission's rules to ensure plans are updated annually, require a certification by the SECC Chairperson or Vice-Chairperson that the SECC met (in person, via teleconference, or via other methods of conducting virtual meetings) at least once in the twelve months prior to submitting the annual updated plan, and require that the Bureau approve or reject State EAS Plans submitted for approval within 60 days of receipt; and (iii) requires the Bureau to list the approval dates of State EAS Plans submitted on ARS on the Commission's website, and in the event a final decision is made to deny a plan, directly notify the chief executive of the State to which the plan applies of that determination and the reasons for such denial within 30 days of such decision. The Order also amends § 11.45 of the part 11 rules to enable voluntary reporting to the Commission by the FEMA Administrator and Tribal, State, local, and territorial governments of false EAS alerts.

The Commission notifies the public of OMB approval of these rule amendments as a modification of a previously approved information collection. Congress has determined that EAS rule changes are necessary to increase oversight over the distribution of state and local EAS alerts within states and to increase false alert reporting capabilities to help ameliorate confusion or other harmful effects that might result from false EAS alerts. The internal State EAS Plan processing requirements and rule changes adopted in the Order will improve State EAS Plan processing and administration, thereby improving the capabilities and efficacy of EAS as a national system for distributing vital alert information to all Americans in a cost-effective manner.

The following information collections contained in part 11 may be impacted by the rule amendments described herein.

State EAS Plans (47 CFR 11.21)

The establishment of a State EAS Plan Content Checklist for SECCs should have no impact or lessen SECC burdens, and posting it on the FCC's website, and incorporating it as an appendix in the ARS user manual, are routine Bureau activities. The requirement to ensure State EAS Plans are updated annually already was contained in § 11.21, and thus does not represent a new burden.

The requirement that the State EAS Plan include a certification (which will be incorporated into the ARS) by the SECC Chairperson or Vice-Chairperson that the SECC met (in person, via teleconference, or via other methods of conducting virtual meetings) at least once in the twelve months prior to submitting the annual updated plan to review and update its State EAS Plan should promote added diligence in SECC administration of State EAS Plans. The Commission estimates the burden to SECC members in complying with this requirement to be two hours per member.

The rule amendment requiring the Bureau approve or reject State EAS Plans submitted for approval within 60 days of receipt does not impose new burdens on any entity. The Bureau already is charged with reviewing State EAS Plans. The internal requirement that the Bureau list the approval dates of State EAS Plans submitted on ARS on the Commission's website, and in the event a final decision is made to deny a plan, to directly notify the chief executive of the State to which the plan applies of that determination and the reasons for such denial within 30 days, does not impose new burdens on any entity. The Bureau already maintains a web page on the Commission's website dedicated to SECC and State EAS Plan information.

False EAS Alert Reporting (47 CFR 11.45)

The amendment enabling the FEMA Administrator and Tribal, State, local, and territorial governments to file reports of false EAS alerts provides another mechanism for the Commission to receive information concerning false EAS alerts and does not impose burdens on any entity. Should any permitted government entity voluntarily elect to file a false EAS alert report, the burden associated with this provision amounts to composing an email, which the Commission estimates will take an hour or less to prepare, and falls within the routine activities of government employees. False alert reports help the Commission to identify, investigate, correct and prevent false EAS activations, which enhances the EAS's efficacy and the public trust in the EAS.

List of Subjects in 47 CFR Part 11

Radio, Television.

Federal Communications Commission.
Marlene Dortch,
Secretary.

For the reasons discussed in the preamble, the Federal Communications Commission amends 47 CFR part 11 as follows:

PART 11—EMERGENCY ALERT SYSTEM (EAS)

1. The authority citation for part 11 continues to read as follows:

Authority: 47 U.S.C. 151, 154 (i) and (o), 303(r), 544(g), 606, 1201, 1206.

§ 11.21 [Amended]

2. Amend § 11.21 by removing paragraph (g).

§ 11.45 [Amended]

3. Amend § 11.45 by removing paragraph (d).

[FR Doc. 2022-12076 Filed 6-3-22; 8:45 am]

BILLING CODE 6712-01-P